ENVIRONMENTAL PROTECTION AGENCY

[FRL-7259-2]

Real-Time Monitoring for Toxicity Caused by Harmful Algal Blooms and Other Water Quality Perturbations

AGENCY: Environmental Protection Agency.

ACTION: Notice of availability.

SUMMARY: This notice announces the availability of a final report titled, Real-Time Monitoring for Toxicity Caused by Harmful Algal Blooms and Other Water Quality Perturbations (EPA/600/R-01/103), which was prepared by the U.S. Environmental Protection Agency's (EPA) National Center for Environmental Assessment (NCEA) of the Office of Research and Development (ORD). This project, sponsored by EPA's Environmental Monitoring for Public Access and Community Tracking (EMPACT) program, evaluated the ability of an automated biological monitoring system that measures fish ventilatory responses (ventilatory rate, ventilatory depth, and cough rate) to detect developing toxic conditions in water.

DATES: This document will be available on August 14, 2002.

ADDRESSES: The document is available electronically through the NCEA Web site at (www.epa.gov/ncea) under the What's New or Publications menus. A limited number of paper copies will be available from EPA's National Service Center for Environmental Publications (NSCEP), PO Box 42419, Cincinnati, Ohio 45242; telephone: 1-800-490-8190 or 513-489-8190; facsimile: 5-13-489-8695. Please provide your name and mailing address and the title and EPA number of the requested publication.

FOR FURTHER INFORMATION CONTACT: For further information contact the Technical Information Staff, National Center for Environmental Assessment/Washington Office (8623D), U.S. Environmental Protection Agency, 1200 Pennsylvania Avenue, NW., Washington, DC 20460. Telephone: 202-564-3261; fax: 202-565-0050.

SUPPLEMENTARY INFORMATION: This report describes the development and operation of a real-time automated biomonitoring system for detecting toxicity caused by harmful algal blooms and other water quality perturbations. The system was developed and evaluated over a 2-year period (March 1999 through November 2000) on the Chicamacomico and Transquaking Rivers, tributaries to the Chesapeake Bay on Maryland's Eastern Shore. Relevant literature has been reviewed through May 2001.

Dated: August 6, 2002.
Michael Slimak,
Acting Director, National Center for Environmental Assessment.

[FR Doc. 02-20581 Filed 8-13-02; 8:45 am]

BILLING CODE 6560-50-P